DEPARTMENT OF COMMERCE

National Oceanic and Atmospheric Administration

[RTID 0648-XC866]

South Atlantic Fishery Management Council; Public Meetings

AGENCY: National Marine Fisheries Service (NMFS), National Oceanic and Atmospheric Administration (NOAA), Commerce.

ACTION: Notice of a public meetings.

SUMMARY: The South Atlantic Fishery Management Council (Council) will hold a meeting of the Socio-Economic Panel (SEP) on April 17 and 18, 2023. The Scientific and Statistical Committee (SSC) will meet on April 18-20, 2023.

DATES: The SEP meeting will be held from 1 p.m. until 5 p.m. EDT on April 17, 2023 and from 8:30 a.m. until 12 p.m. on April 18, 2023. The SSC meeting will be held from 1 p.m. until 5 p.m. EDT on April 18, 2023, from 8:30 a.m. until 5 p.m. on April 19, 2023 and from 8:30 a.m. until 3 p.m. on April 20, 2023.

ADDRESSES:

Council address: South Atlantic Fishery Management Council, 4055 Faber Place Drive, Suite 201, N Charleston, SC 29405.

Meeting address: The meetings will be held at the Town and Country Inn, 2008 Savannah Highway, Charleston, SC 29407; phone: (843) 571-1000. The meetings will also be available via webinar. Registration is required. Webinar registration, an online public comment form, and briefing book materials will be available two weeks prior to the meetings at: https://safmc.net/scientific-and-statistical-committee-meeting/.

FOR FURTHER INFORMATION CONTACT: John Hadley, Fishery Management Plan Coordinator, SAFMC; phone: (843) 571-4366 or toll free: (866) SAFMC-10; fax: (843) 769-4520; email: john.hadley@safmc.net.

SUPPLEMENTARY INFORMATION:

SSC Socio-Economic Panel

The SEP meeting agenda includes discussing the development of a port meeting series for the king and Spanish mackerel fisheries, the Management Strategy Evaluation (MSE) for the snapper grouper fishery in the South Atlantic region, and potential improvements to economic analysis of recreational fisheries. The SEP will also provide feedback on Council research recommendations. The SEP will receive two presentations, one from NOAA Fisheries Southeast Regional Office (SERO) on socio-economic impacts of COVID, and one from NOAA Fisheries Southeast Fishery Science Center (SEFSC) on red snapper discard research. SEP members also will receive updates on recent Council amendments and the Council's Citizen Science Program. The SEP will provide recommendations for SSC and Council consideration.

Scientific and Statistical Committee

The SSC meeting agenda includes the review and catch level recommendations for the SEDAR (Southeast Data, Assessment, and Review) 76 Black Sea Bass Operational Assessment, SEDAR 78 Spanish Mackerel Operational Assessment, and SEDAR 68 Atlantic Scamp Operational Assessment. The SSC will review the Council's Research and Monitoring Plan, a new SEFSC landings and discards projections methodology, the deep-water coral distribution model, and a portfolio analysis for ecosystem approaches. The SSC will receive updates on the South Atlantic Greater Amberjack Research Project, vermillion snapper interim analysis, Southeast Reef Fish Survey 2022 trends report, multi-hook gear analysis, and a pandemic impacts report. The SSC is scheduled to form two new workgroups and will discuss other business as needed.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: March 21, 2023.
Rey Israel Marquez,
Acting Deputy Director, Office of Sustainable Fisheries, National Marine Fisheries Service.

[FR Doc. 2023-06110 Filed 3-23-23; 8:45 am]

BILLING CODE 3510-22-P